DEPARTMENT OF COMMERCE

National Oceanic and Atmospheric Administration

[I.D. 080805E]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting, which is open to the public.

DATES: The GMT meeting will be held Monday, August 29, 2005, from 1 p.m. until business for the day is completed. The GMT meeting will reconvene Tuesday, August 30 through Friday, September 2, from 8:30 a.m. until business for the day is completed.

ADDRESSES: The GMT meeting will be held at the Pacific Fishery Management Council office, West Conference Room, 7700 NE Ambassador Place, Suite 200, Portland, OR 97220-1384; telephone: (503) 820-2280.

Council address: Pacific Fishery Management Council, 7700 NE Ambassador Place, Suite 200, Portland, OR 97220-1384.

FOR FURTHER INFORMATION CONTACT: Mr. John DeVore, Groundfish Management Coordinator; telephone: 503-820-2280.

SUPPLEMENTARY INFORMATION: The purpose of the GMT meeting is to discuss groundfish management measures in place for the summer and fall months and consider inseason adjustments to ongoing West Coast groundfish fisheries; discuss implementation strategies and draft amendatory language for Groundfish Fishery Management Plan (FMP) Amendment 18; discuss draft amendatory language for FMP Amendment 19 (specifying measures to protect West Coast groundfish essential fish habitat); develop draft regulations for protecting West Coast groundfish essential fish habitat; discuss alternative revision rules for adopted groundfish rebuilding plans; discuss a draft schedule, process, and work plan for deciding 2007-08 groundfish harvest specifications and management measures; develop 2006 management specifications for spiny dogfish and Pacific cod; receive an update on development of the trawl individual quota program; review new groundfish stock assessments; and address other assignments relating to groundfish management. No management actions will be decided by the GMT. The GMT's role will be development of recommendations for consideration by the Council at its September meeting in Portland, OR.

Although non-emergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at 503-820-2280 at least 5 days prior to the meeting date.

Dated: August 8, 2005.
Peter H. Fricke,
Acting Director, Office of Sustainable Fisheries, National Marine Fisheries Service.

[FR Doc. 05-16062 Filed 8-12-05; 8:45 am]

BILLING CODE 3510-22-S